NUCLEAR REGULATORY COMMISSION

[Docket NO. 50-346]

Firstenergy Nuclear Operating Company, Davis-Besse Nuclear Power Station, Unit 1; Environmental Assessment and Finding of No Significant Impact

The U.S. Nuclear Regulatory Commission (NRC) is considering issuance of an amendment to an existing exemption from title 10 of the Code of Federal Regulations (10 CFR) part 50, section III.G, appendix R, for Facility Operating License No. NPF-3, issued to FirstEnergy Nuclear Operating Company (the licensee), for operation of the Davis-Besse Nuclear Power Station (DBNPS), Unit 1, located in Ottawa County, Ohio. Therefore, as required by 10 CFR 51.21, the NRC is issuing this environmental assessment and finding of no significant impact.

Environmental Assessment

Identification of the Proposed Action

The proposed action would amend an existing exemption concerning certain requirements of Section III.G of Appendix R, “Fire Protection Program for Nuclear Power Facilities Operating Prior to January 1, 1979.” Specifically, this amendment to the existing exemption applies to requirements for the DBNPS Component Cooling Water (CCW) Heat Exchanger and Pump Room (Room 328).

The proposed action is in accordance with the licensee's application dated December 21, 2000.

The Need for the Proposed Action

The proposed action is needed because an underlying basis for the existing exemption, namely, the use of fire protection wrap for certain equipment, is no longer necessary due to plant modifications. Section III.G of Appendix R requires, in part, 20 feet of separation between redundant trains of systems necessary for hot shutdown in the same fire area, with no intervening combustibles. Contrary to this requirement, all three CCW pumps for the DBNPS are located at one end of Room 328, and although the redundant CCW pumps are more than 20 feet apart, the third pump, a “swing” component, is located between the redundant pumps. The centerline of the swing pump is approximately 11 feet from the centerline of each of the other two pumps. Only one CCW pump is needed for safe shutdown. In order to maintain the remainder of the room in compliance with Appendix R requirements, certain electrical conduits and valves in Room 328 associated with the CCW system were, at the time of the request for the existing exemption, protected against fire to ensure that a fire would not lead to the inoperability of both CCW pumps. Since the issuance of the existing exemption, the necessity of protecting these conduits and valves from fire has evolved to the point where their fire protection wrapping is no longer required in order to ensure safe shutdown.

Environmental Impacts of the Proposed Action

The NRC has completed its evaluation of the proposed action and concludes that the proposed exemption does not involve radioactive wastes, release of radioactive material into the atmosphere, solid radioactive waste, or liquid effluents released to the environment.

The Davis-Besse Nuclear Power Station systems were evaluated in the Final Environmental Statement (FES) dated October 1975 (NUREG 75/097). The proposed exemption will not involve any change in the waste treatment systems described in the FES.

The proposed action will not significantly increase the probability or consequences of accidents, no changes are being made in the types of effluents that may be released off site, and there is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resource than those previously considered in the Final Environmental Statement for the DBNPS, dated October 1975.

Agencies and Persons Consulted

In accordance with its stated policy, on January 16, 2002, the NRC staff consulted with Ohio State official, C. O'Claire, Chief, Radiological Branch, Ohio Emergency Management Agency, regarding the environmental impact of the proposed action. The state official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated December 21, 2000. Documents may be examined, and/or copied for a fee, at the NRC's Public Document Room (PDR), located at One White Flint North, 11555 Rockville Pike (first floor), Rockville, Maryland. Publicly available records will be accessible electronically from the ADAMS Public Library component on the NRC Web site, http://www.nrc.gov (the Public Electronic Reading Room). Persons who do not have access to ADAMS or who encounter problems in accessing the documents located in ADAMS, should contact the NRC PDR Reference staff by telephone at 1-800-397-4209, or 301-415-4737, or by e-mail at pdr@nrc.gov.

Dated at Rockville, Maryland, this 25th day of January 2002.
For the Nuclear Regulatory Commission.
Anthony J. Mendiola,
Chief, Section 2, Project Directorate III, Division of Licensing Project Management, Office of Nuclear Reactor Regulation.

[FR Doc. 02-2375 Filed 1-30-02; 8:45 am]

BILLING CODE 7590-01-P